DEPARTMENT OF HEALTH AND HUMAN SERVICES

Health Resources and Services Administration

HRSA-03-019 Fiscal Year 2004 Geriatric Academic Career Awards (GACA)—CFDA 93.250

AGENCY: Health Resources and Services Administration, HHS.

ACTION: Extension of deadline date.

SUMMARY: The Health Resources and Services Administration previously announced in the HRSA Preview, Volume 7, Summer 2003, that the deadline for receipt of applications for Geriatric Academic Career Awards in Fiscal Year 2004 is February 2, 2004. This deadline has been extended to July 1, 2004. Applications must be sent to the Geriatric Academic Career Awards Program Office, Room 8-103, Parklawn Building, 5600 Fishers Lane, Rockville, MD 20857 and postmarked July 1, 2004, or earlier to be considered for Funding in Fiscal Year 2004.

Dated: April 13, 2004.
Elizabeth M. Duke,
Administrator.

[FR Doc. 04-9472 Filed 4-26-04; 8:45 am]

BILLING CODE 4165-15-P